COMMISSION ON CIVIL RIGHTS

Sunshine Act Meeting

AGENCY: Commission on Civil Rights.

Date and Time: Friday, April 12, 2002, 9:30 a.m.

Place: U.S. Commission on Civil Rights, 624 Ninth Street, NW., Room 540, Washington, DC 20425.

Status:

Agenda

I. Approval of Agenda

II. Approval of Minutes of March 8, 2002 Meeting

III. Announcements

IV. Staff Director's Report

V. State Advisory Committee Appointments for Colorado, Kansas and Louisiana, and the Approval of SAC Chairs for the District of Columbia and Washington State.

VI. State Advisory Committee Report: Racism's Frontier: The Untold Story of Discrimination and Division in Alaska

VII. Future Agenda Items

10:30 a.m. A Briefing on the Reauthorization of the IDEA

CONTACT PERSON FOR FURTHER INFORMATION: Les Jin, Press and Communications (202) 376-7700.

Debra A. Carr,
Deputy General Counsel.

[FR Doc. 02-8349 Filed 4-2-02; 3:31 pm]

BILLING CODE 6335-01-M